DEPARTMENT OF HEALTH AND HUMAN SERVICES

National Institutes of Health

Proposed Collection; 60-Day Comment Request; Identifying Experts in Prevention Science Methods To Include on NIH Review Panels, (Office of the Director, Office of Disease Prevention)

AGENCY: National Institutes of Health, Health and Human Services (HHS).

ACTION: Notice.

SUMMARY: In compliance with the requirements of the Paperwork Reduction Act of 1995 to provide opportunity for public comment on proposed data collection projects, the National Institutes of Health (NIH), Office of Disease Prevention (ODP) will publish periodic summaries of proposed projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Ms. Kat Schwartz, Communications Specialist, NIH Office of Disease Prevention, 6100 Executive Blvd., Room 2B03, Bethesda, MD 20892 or call (301) 827-6514 or email your request, including your address, to prevention@mail.nih.gov. Formal requests for additional plans and instruments must be requested in writing.

SUPPLEMENTARY INFORMATION: Section 3506(c)(2)(A) of the Paperwork Reduction Act of 1995 requires: written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Proposed Collection Title: Identifying Experts in Prevention Science Methods to Include on NIH Review Panels, OMB# 0925-0728—EXTENSION, exp. 11/30/2020, Office of Disease Prevention (ODP), National Institutes of Health (NIH).

Need and Use of Information Collection: The Office of Disease Prevention (ODP) is the lead Office at the National Institutes of Health (NIH) responsible for assessing, facilitating, and stimulating research in disease prevention and health promotion, and disseminating the results of this research to improve public health. Prevention is preferable to treatment, and research on disease prevention is an important part of the NIH's mission. The knowledge gained from this research leads to stronger clinical practice, health policy, and community health programs. The ODP collaborates with the NIH, other Department of Health and Human Services (DHHS) agencies, and other public and private partners to achieve the Office's mission and goals. One of ODP's priorities is to promote the use of the best available methods in prevention research and support the development of better study designs and research methods. One of our strategies is to help NIH Institutes, Centers, and Offices identify experts in prevention science methods to include on their peer review panels. This strengthens the panels and improves the quality of the prevention-related research supported by the NIH. To identify experts in prevention science methods, we have developed online software that allows us to collect scientists' names, contact information, and resumes, as well as to have those scientists identify their level of expertise in a variety of prevention science methods and content areas. The data are used to populate a web-based tool that NIH staff can use to identify scientists with prevention-related research expertise in specific research methods and study designs for invitation to serve as a reviewer on an NIH study section. This system is also shared with other DHHS agency's review staff, to use in the same way. This OMB extension is for the continued collection of data using the existing procedures, format, and online software platform for the Prevention Research Expertise Survey (PRES). The purpose of the survey is to maintain a current directory of experts in prevention science research methods, study designs, and scientific content topics, as well as the geographic region, setting, and income category of the region/country in which investigator's/respondent's research is performed.

OMB approval is requested for 3 years. There are no costs to respondents other than their time. The total estimated annualized burden hours are 417.

Estimated Annualized Burden Hours
Type of respondent | Number of respondents | Number of responses per respondent | Average time per response (in hours) | Total annual burden hour
New Investigators | 600 | 1 | 25/60 | 250
Returning Investigators (to update information) | 1,000 | 1 | 10/60 | 167
Total |  | 1,600 |  | 417

Dated: July 30, 2020.
Lawrence A. Tabak,
Principal Deputy Director, National Institutes of Health.

[FR Doc. 2020-17198 Filed 8-5-20; 8:45 am]

BILLING CODE 4140-01-P